DEPARTMENT OF HEALTH AND HUMAN SERVICES

National Institutes of Health

Center for Scientific Review; Amended Notice of Meeting

Notice is hereby given of a change in the meeting of the Center for Scientific Review Special Emphasis Panel, June 30, 2008, 8 a.m. to July 1, 2008, 5 p.m., Doubletree Hotel, 1515 Rhode Island Avenue, NW., Washington, DC 20005, which was published in the Federal Register on May 15, 2008, 73 FR 28122-28123.

The meeting will be held one day only, June 30, 2008. The meeting time and location remain the same. The meeting is closed to the public.

Dated: May 27, 2008.
Jennifer Spaeth,
Director, Office of Federal Advisory Committee Policy.

[FR Doc. E8-12275 Filed 6-4-08; 8:45 am]

BILLING CODE 4140-01-M